FEDERAL COMMUNICATIONS COMMISSION

[DA 01-443]

AGENCY: Federal Communications Commission.

ACTION: Notice.

SUMMARY: This document announces a public forum to be held by the International Bureau on March 14, 2001 regarding the entry of U.S. companies into telecommunications markets in foreign countries. The forum is open to the public and will be at the Federal Communications Commission Headquarters, 445 12th Street, SW., Washington, DC, in the Commission Meeting Room (Room TW-C305) from 10:30 am to 12 noon.

The information obtained during the forum will be used by the Bureau to supplement the 2000 version of the “International Markets Report.” The International Markets Report is prepared annually by the Bureau pursuant to a request from Senator Hollings and the staff of the U.S. Senate Committee on Commerce, Science and Transportation dating from 1997. The report details changes that have taken place over the past year for wireline telecommunications and satellite services. The Commission is making this announcement to provide an opportunity for the public to identify issues that should be addressed in an upcoming proceeding.

DATES: The public forum will be held on March 14, 2001, from 10:30 a.m. to 12 noon. Outlines of oral presentations and written presentations should be submitted no later than March 7, 2001.

ADDRESSES: Federal Communications Commission, 445 12th Street, SW., Room 6C-848, Washington, DC 20554.

FOR FURTHER INFORMATION CONTACT: David Krech, International Bureau, (202) 418-7443.

SUPPLEMENTARY INFORMATION: Released February 16, 2001.

1. On March 14, 2001, from 10:30 am to 12 noon, the International Bureau will hold a public forum to provide an opportunity for the public to discuss issues relating to entry by U.S. companies into telecommunications markets in foreign countries. The forum is open to the public and will be at the Federal Communications Commission Headquarters, 445 12th Street, SW., Washington, DC, in the Commission Meeting Room (Room TW-C305).

2. The Bureau intends that this public forum will provide an opportunity for the public to share experiences regarding entry by U.S. companies into foreign telecommunications markets. The information gathered at this public forum will be used by the Bureau to supplement the 2000 version of the “International Markets Report.” The International Markets Report is prepared annually by the Bureau pursuant to a request from Senator Hollings and the staff of the U.S. Senate Committee on Commerce, Science and Transportation dating from 1997. The report details changes that have taken place over the past year for wireline telecommunications and satellite services. (The 1997-1998 and 1999 versions of the report are available on the FCC web-site at http://www.fcc.gov/ib/wto/html.)

3. The purpose of the forum is not to discuss the merits of any pending Commission proceedings and is not otherwise part of a pending Commission proceeding. As such, the forum is not subject to the Commission's ex parte rules. To the extent a participant discusses the merits of a pending proceeding, the ex parte rules will apply with respect to the particular discussion.

4. Any party wishing to make a formal presentation (no longer than 10 minutes) at the public forum should send an outline of the presentation to David Krech. Parties also are welcome to make written submissions in lieu of speaking at the forum. Outlines of oral presentations and written submissions should be sent to David Krech no later than March 7, 2001, either via fascimile to the Bureau's Telecommunications Division at (202) 418-2824, or by e-mail to dkrech@fcc.gov.

Federal Communications Commission.
Magalie Roman Salas,
Secretary.

[FR Doc. 01-4726 Filed 2-26-01; 8:45 am]

BILLING CODE 6712-01-U